DEPARTMENT OF HEALTH AND HUMAN SERVICES

National Institutes of Health

Submission for OMB Review; Comment Request; Fogarty International Center CareerTrac

Summary: Under the provisions of Section 3507(a)(1)(D) of the Paperwork Reduction Act of 1995, the Fogarty International Center (FIC), the National Institutes of Health (NIH), has submitted to the Office of Management and Budget (OMB) a request for review and approval of the information collection listed below. This proposed information collection was previously published in the Federal Register on February 14, 2006, page 7780-7781, and allowed 60-days for public comment. No comments were received from this notification regarding the cost and hour burden estimates. One comment was received suggesting that the Federal Government should not be funding international work until all Amercians are cared for. We note that through partnerships in training and research with scientists from around the world, including those in developing countries, we are able to identify new strategies and new understandings of disease processes, including for AIDS, TB, and chronic diseases such as heart disease, that affect all Americans. The purpose of this announcement is to allow an additional 30 days for public comment. The National Institutes of Health may not conduct or sponsor, and the respondent is not required to respond to, an information collection that has been extended, revised, or implemented on or after October 1, 1995, unless it displays a currently valid OMB control number.

Proposed Collection

Title: Fogarty International Center CareerTrac.

Type of Information Collection Request: New.

Need and Use of Information Collection: This data collection system is being developed to track, evaluate and report short and long-term outputs, outcomes and impacts of international trainees involved in health research training programs specifically tracking this for at least ten years following training by having trainees enter their own data after they have completed the program. The data collection system provides a streamlined, Web-based application permitting principal investigators to record career achievement progress by trainee on a voluntary basis. FIC management will use this data to monitor, evaluate and adjust grants to ensure desired outcomes are achieved, comply with OMB PART requirements, respond to congressional inquiries, and as a guide to inform future strategic and management decisions regarding the grant program.

Frequency of Response: Annual and periodic.

Affected Public: None.

Type of Respondents: Principal Investigators funded by Fogarty International Center.

The annual reporting burden is as follows:

Estimated Number of Respondents: 150.

Estimated Number of Responses per Respondent: 15.

Average Burden Hours per Response: 50; and

Estimated Total Annual Burden Hours Requested: 1125.

The annualized cost to respondents is estimated at $87,939. There are no Capital Costs to report. There are no Operating or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503.

Attention: Desk Office NIH. To request more information on the proposed project or to obtain a copy of the data collection plans and instruments, contact Dr. Linda Kupfer, Fogarty International Center, National Institutes of Health, 16 Center Drive, Building 16, Bethesda, MD 20892-6705 or call non-toll-free number 301-496-3288 or e-mail your request, including your address to kupferl@mail.nih.gov.

Comments Due Date: Comments regarding this information collection are best assured of having their full effect if received within 30 days of the date of this publication.

Dated: June 21, 2006.
Richard Miller,
Executive Officer, FIC, National Institutes of Health.

[FR Doc. 06-5883 Filed 6-29-06; 8:45 am]

BILLING CODE 4140-01-M